DEPARTMENT OF LABOR

Employment and Training Administration

[TA-W-64,458]

Continental Structural Plastics Including On-Site Leased Workers From Kelly Services and Time Staffing; North Baltimore, OH; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on December 31, 2008, applicable to workers of Continental Structural Plastics, North Baltimore, Ohio. The notice was published in the Federal Register on January 26, 2009 (74 FR 4463).

At the request of the UAW, Local 1889, the Department reviewed the certification for workers of the subject firm. The workers produced exterior body panels and under body structural components for automobiles. The firm has since closed, eliminating the possibility of a new petition to cover these workers.

New information shows that workers leased from Kelly Services and Time Staffing were employed on-site at the North Baltimore, Ohio location of Continental Structural Plastics. The Department has determined that these workers were sufficiently under the control of the subject firm to be considered leased workers.

Based on these findings, the Department is amending this certification to include workers leased from Kelly Services and Time Staffing working on-site at the North Baltimore, Ohio location of Continental Structural Plastics.

The amended notice applicable to TA-W-64,458 is hereby issued as follows:

All workers of Continental Structural Plastics, including on-site leased workers from Kelly Services and Time Staffing, North Baltimore, Ohio, who became totally or partially separated from employment on or after November 11, 2007, through December 31, 2010, are eligible to apply for adjustment assistance under Section 223 of the Trade Act of 1974, and are also eligible to apply for alternative trade adjustment assistance under Section 246 of the Trade Act of 1974.

Signed at Washington, DC, this 17th day of December 2010.
Michael W. Jaffe,
Certifying Officer, Office of Trade Adjustment Assistance.

[FR Doc. 2010-33047 Filed 12-30-10; 8:45 am]

BILLING CODE 4510-FN-P